DEPARTMENT OF TRANSPORTATION

Federal Aviation Administration

14 CFR Part 39

[Docket No. FAA-2018-0809; Product Identifier 2018-NM-092-AD; Amendment 39-19524; AD 2018-25-13]

RIN 2120-AA64

Airworthiness Directives; Dassault Aviation Model FALCON 2000 Airplanes

AGENCY: Federal Aviation Administration (FAA), Department of Transportation (DOT).

ACTION: Final rule.

SUMMARY: We are adopting a new airworthiness directive (AD) for certain Dassault Aviation Model FALCON 2000 airplanes. This AD was prompted by a report of chafing of a wire bundle located at the bottom of the right hand (RH) electrical cabinet. This AD requires a one-time general visual inspection of the wiring bundle for damage, measurement of the clearance between the metallic plate and the wiring bundle, and corrective actions if necessary. We are issuing this AD to address the unsafe condition on these products.

DATES: This AD is effective January 18, 2019.

The Director of the Federal Register approved the incorporation by reference of a certain publication listed in this AD as of January 18, 2019.

ADDRESSES: For service information identified in this final rule, contact Dassault Falcon Jet Corporation, Teterboro Airport, P.O. Box 2000, South Hackensack, NJ 07606; telephone 201-440-6700; internet http://www.dassaultfalcon.com. You may view this service information at the FAA, Transport Standards Branch, 2200 South 216th St., Des Moines, WA. For information on the availability of this material at the FAA, call 206-231-3195. It is also available on the internet at http://www.regulations.gov by searching for and locating Docket No. FAA-2018-0809.

Examining the AD Docket

You may examine the AD docket on the internet at http://www.regulations.gov by searching for and locating Docket No. FAA-2018-0809; or in person at Docket Operations between 9 a.m. and 5 p.m., Monday through Friday, except Federal holidays. The AD docket contains this final rule, the regulatory evaluation, any comments received, and other information. The address for Docket Operations (phone: 800-647-5527) is U.S. Department of Transportation, Docket Operations, M-30, West Building Ground Floor, Room W12-140, 1200 New Jersey Avenue SE, Washington, DC 20590.

FOR FURTHER INFORMATION CONTACT: Tom Rodriguez, Aerospace Engineer, International Section, Transport Standards Branch, FAA, 2200 South 216th St., Des Moines, WA 98198; telephone and fax 206-231-3226.

SUPPLEMENTARY INFORMATION:

Discussion

We issued a notice of proposed rulemaking (NPRM) to amend 14 CFR part 39 by adding an AD that would apply to certain Dassault Aviation Model FALCON 2000 airplanes. The NPRM published in the Federal Register on October 9, 2018 (83 FR 50537). The NPRM was prompted by a report of chafing of a wire bundle located at the bottom of the RH electrical cabinet. The NPRM proposed to require a one-time general visual inspection of the wiring bundle for damage, measurement of the clearance between the metallic plate and the wiring bundle, and corrective actions if necessary.

We are issuing this AD to address chafing of a wire bundle located at the bottom of the RH electrical cabinet, which may cause damage to wires within the bundle, and, if not detected and corrected, could lead to improper functioning of airplane systems (such as loss of wing anti-icing or wing anti-icing inoperative indication, loss of normal braking indication, and loss of “No take-off” indication), which could result in reduced control of the airplane.

The European Aviation Safety Agency (EASA), which is the Technical Agent for the Member States of the European Union, has issued EASA AD 2018-0114, dated May 23, 2018, (referred to after this as the Mandatory Continuing Airworthiness Information, or “the MCAI”), to correct an unsafe condition for certain Dassault Aviation Model FALCON 2000 airplanes. The MCAI states:

One Falcon 2000 aeroplane experienced some chafing of a wire bundle located at the bottom of the right-hand (RH) electrical cabinet (between Frames 4 and 5). The wire loom interfered with a metallic (ground) plate of terminal strip 700J and at least 12 wires were damaged. This wire loom includes 250 wires and in case of chafing, any wire may be damaged.

This condition, if not detected and corrected, could lead to improper functioning of aeroplane systems [such as loss of wing anti-icing or wing anti-icing inoperative indication, loss of normal braking indication, and loss of “No take-off” indication], possibly resulting in reduced control of the aeroplane.

To address this potential unsafe condition, Dassault developed a modification M3889 to improve the clearance between the metallic plate and the wire loom, and published the SB [Dassault Aviation Service Bulletin F2000-436] to inspect and modify aeroplanes in service.

For the reasons described above, this [EASA] AD requires a one-time inspection of the wiring bundle for interference or damage, measurement of the clearance between the metallic plate and the wiring bundle, and depending on findings, modification of the aeroplane by cutting out the lower part of the ground plate of terminal strip 700J and adding an edge protection to prevent interference. Aeroplanes that do not have a metallic plate installed are not affected by this [EASA] AD.

You may examine the MCAI in the AD docket on the internet at http://www.regulations.gov by searching for and locating Docket No. FAA-2018-0809.

Comments

We gave the public the opportunity to participate in developing this final rule. We have considered the comments received. Lucas Kline indicated his support for the NPRM.

Conclusion

We reviewed the relevant data, considered the comments received, and determined that air safety and the public interest require adopting this final rule as proposed, except for minor editorial changes. We have determined that these minor changes:

• Are consistent with the intent that was proposed in the NPRM for addressing the unsafe condition; and

• Do not add any additional burden upon the public than was already proposed in the NPRM.

Related Service Information Under 1 CFR Part 51

Dassault Aviation has issued Service Bulletin F2000-436, dated September 28, 2017. This service information describes procedures for a one-time general visual inspection of the wiring bundle for damage (including chafing), measurement of the clearance between the metallic plate and the wiring bundle, and corrective actions. Corrective actions include modification of the airplane by cutting out the lower part of the ground plate of terminal strip 700J and adding an edge protection to prevent interference and replacement of damaged wires. This service information is reasonably available because the interested parties have access to it through their normal course of business or by the means identified in the ADDRESSES section.

Costs of Compliance

We estimate that this AD affects 195 airplanes of U.S. registry. We estimate the following costs to comply with this AD:

Estimated Costs
Labor cost | Parts cost | Cost per product | Cost on U.S. operators
4 work-hours × $85 per hour = $340 | $0 | $340 | $66,300

We estimate the following costs to do the necessary on-condition action that would be required based on the results of any required actions. We have no way of determining the number of aircraft that might need this on-condition action:

Estimated Costs of On-Condition Actions
Labor cost | Parts cost * | Cost per product
2 work-hours × $85 per hour = $170 | $0 | $170
* We have received no definitive data for the parts cost for the on-condition actions.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2018-25-13 Dassault Aviation: Amendment 39-19524; Docket No. FAA-2018-0809; Product Identifier 2018-NM-092-AD.

(a) Effective Date

This AD is effective January 18, 2019.

(b) Affected ADs

None.

(c) Applicability

This AD applies to Dassault Aviation Model FALCON 2000 airplanes, certificated in any category, manufacturer serial numbers 70 through 231 inclusive.

(d) Subject

Air Transport Association (ATA) of America Code 24, Electrical power.

(e) Reason

This AD was prompted by a report of chafing of a wire bundle located at the bottom of the right hand (RH) electrical cabinet. We are issuing this AD to address such chafing, which may cause damage to wires within the bundle, and, if not detected and corrected, could lead to improper functioning of airplane systems (such as loss of wing anti-icing or wing anti-icing inoperative indication, loss of normal braking indication, and loss of “No take-off” indication), which could result in reduced control of the airplane.

(f) Compliance

Comply with this AD within the compliance times specified, unless already done.

(g) Inspection

Within 25 months after the effective date of this AD, for airplanes equipped with a metallic plate at the bottom of the RH electrical cabinet, do the following actions as specified in paragraphs (g)(1) and (g)(2) of this AD.

(1) Perform a general visual inspection of the wiring bundle for damage (including chafing), in accordance with the Accomplishment Instructions of Dassault Aviation Service Bulletin F2000-436, dated September 28, 2017.

(2) Measure the clearance between the metallic plate and the wire bundle at the bottom of the RH electrical cabinet in accordance with the Accomplishment Instructions of Dassault Aviation Service Bulletin F2000-436, dated September 28, 2017.

(h) Corrective Action

(1) If, during the inspection required by paragraph (g)(1) of this AD, any damage is found, before further flight, replace all damaged wires using a method approved by the Manager, International Section, Transport Standards Branch, FAA; or the European Aviation Safety Agency (EASA); or Dassault Aviation's EASA Design Organization Approval (DOA). If approved by the DOA, the approval must include the DOA-authorized signature.

(2) If, during the measurement required by paragraph (g)(2) of this AD, the detected clearance is less than the criteria specified in Dassault Aviation Service Bulletin F2000-436, dated September 28, 2017, before further flight, modify the metallic plate in accordance with the Accomplishment Instructions of Dassault Aviation Service Bulletin F2000-436, dated September 28, 2017.

(i) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (j)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Section, Transport Standards Branch, FAA; or EASA; or Dassault Aviation's EASA DOA. If approved by the DOA, the approval must include the DOA-authorized signature.

(j) Related Information

(1) Refer to Mandatory Continuing Airworthiness Information (MCAI) EASA AD 2018-0114, dated May 23, 2018, for related information. This MCAI may be found in the AD docket on the internet at http://www.regulations.gov by searching for and locating Docket No. FAA-2018-0809.

(2) For more information about this AD, contact Tom Rodriguez, Aerospace Engineer, International Section, Transport Standards Branch, FAA, 2200 South 216th St., Des Moines, WA 98198; telephone and fax 206-231-3226.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Dassault Service Bulletin F2000-436, dated September 28, 2017.

(ii) [Reserved]

(3) For service information identified in this AD, contact Dassault Falcon Jet Corporation, Teterboro Airport, P.O. Box 2000, South Hackensack, NJ 07606; telephone 201-440-6700; internet http://www.dassaultfalcon.com.

(4) You may view this service information at the FAA, Transport Standards Branch, 2200 South 216th St., Des Moines, WA. For information on the availability of this material at the FAA, call 206-231-3195.

(5) You may view this service information that is incorporated by reference at the National Archives and Records Administration (NARA). For information on the availability of this material at NARA, call 202-741-6030, or go to: http://www.archives.gov/federal-register/cfr/ibr-locations.html.

Issued in Des Moines, Washington, on November 28, 2018.
James Cashdollar,
Acting Director, System Oversight Division, Aircraft Certification Service.

[FR Doc. 2018-26629 Filed 12-13-18; 8:45 am]

BILLING CODE 4910-13-P